DEPARTMENT OF COMMERCE

Bureau of Industry and Security

Action Affecting Export Privileges; Reza Moghadam Pirasteh

ORDER

The Bureau of Industry and Security, United States Department of Commerce (“BIS”) having notified Reza Moghadam Pirasteh (“Pirasteh”) of its intention to initiate an administrative proceeding against Pirasteh pursuant to Section 766.3 of the Export Administration regulations (currently codified at 15 CFR Parts 730-744 (2003)) (“Regulations”), and Section 13(c) of the Export Administration Act of 1979, as amended (50 U.S.C. app. Sections 2401-2420 (2000)) (“Act”),¹ based on the proposed charging letter issued to Pirasteh that alleged Pirasteh committed four violations of the Regulations, by aiding and abetting exports of liquid injectors to Iran, items subject to the Regulations and the Iran Transactions Regulations, without authorization from the Office of Foreign Assets control, U.S. Department of Treasury (on two occasions); by acting to evade the Regulations by directing that the name of the country “Iran” not be used in communications so as to conceal the ultimate destination of the exports; and by making a false statement to a BIS investigator.

¹ From August 21, 1994 through November 12, 2000, the Act was in lapse. During that period, the President, through Executive Order 12924, which had been extended by successive Presidential Notices, the last of which was August 3, 2000 (3 CFR 2000 Comp. 397 (2001)), contineud the Regulations in effect under the International Emergency Economic Powers Act (50 U.S.C. 1701—1707 (2000)) (“IEEPA”). On November 13, 2000, the Act was reauthorized and it remained in effect through August 20, 2001. Since August 21, 2001, the Act has been in lapse and the President, through Executive Order 13222 of August 17, 2001 (3 CFR, 2001 Comp. 783 (2002)), as last extended by the Notice of August 7, 2003 (68 FR 47833 (August 11, 2003)), has continued the Regulations in effect under IEEPA.

BIS and Pirasteh having entered into a Settlement Agreement pursuant to section 766.18(a) of the Regulations whereby they agreed to settle this matter in accordance with the terms and conditions set forth therein, and the terms of the Settlement Agreement having been approved by me;

It Is Therefore Ordered:

First, that a civil penalty of $4,500 is assessed against Pirasteh. Payment of the civil penalty shall be made in seven payments to the Department of Commerce. The first payment shall be of $300 and shall be paid within 30 days from the date of entry of this Order. The next six payments shall each be of $700 and shall be made on or before; April 1, 2004, July 1, 2004, October 1, 2004, January 4, 2005, April 1, 2005, and July 1, 2005. Payments shall be made in the manner specified in the attached instructions.

Second, that pursuant to the Debt Collection Act of 1982, as amended (31 U.S.C. §§ 3701-3720E (2000)), the civil penalty owed under this Order accrues interest as more fully described in the attached notice, and, if a payment is not made by the due date specified herein, Pirasteh will be assessed, in addition to the full amount of the civil penalty and interest, a penalty charge and an administrative charge, as more fully described in the attached Notice.

Third, that for a period of seven years from the date of this Order, Pirasteh, 2308 Arroyo Court, Plano, Texas 75074, his successors or assigns, and when acting for or on behalf of Pirasteh, his representatives, agents, or employees (“denied person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

Fourth, that no person may, directly or indirectly, do any of the following:

A. Export or reexport to or on behalf of the denied person any item subject to the Regulations;

B. Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, exported from the United States; or

E. Engage in any transaction to service any item subject to the Regulations that has been or will be exported from the United States and which is owned, possessed or controlled by the denied person, or service any item, of whatever origin, that is owned, possessed or controlled by the denied person if such service involves the use of any item subject to the Regulations that has been or will be exported from the United State. For purposes of this paragraph, servicing means installations, maintenance, repair, modification or testing.

Fifth, that after notice and opportunity for comment as provided in Section 766.23 of the Regulations, any person, firm, corporation, or business organization related to Pirasteh by affiliation, ownership, control, or position of responsibility in the conduct of trade or related services may also be subject to the provisions of this Order.

Sixth, that this Order does not prohibit any export, reexport, or other transaction subject to the Regulations where the only items involved that are subject to the Regulations are the foreign-produced direct product of U.S.-origin technology.

Seventh, that, the proposed charging letter, the Settlement Agreement, and this Order shall be made available to the public.

This Order, which constitutes the final agency action ion this matter, is effective immediately.

Entered this 30th day of September 2003.
Lisa A. Prager,
Acting Assistant Secretary of Commerce for Export Enforcement.

[FR Doc. 03-25390 Filed 10-6-03; 8:45 am]

BILLING CODE 3510-DT-M